DEPARTMENT OF COMMERCE

National Telecommunications and Information Administration

Recruitment of First Responder Network Authority Board of Directors

AGENCY: National Telecommunications and Information Administration, U.S. Department of Commerce.

ACTION: Notice.

SUMMARY: The National Telecommunications and Information Administration (NTIA) issues this Notice on behalf of the First Responder Network Authority (FirstNet) as part of its annual process to seek expressions of interest from individuals who would like to serve on the FirstNet Board.¹ When the Acting Secretary of Commerce made the initial appointments to the Board last August 20, 2012, by law, four of the 12 appointments of non-permanent members were for one-year terms.² While the Secretary of Commerce has the discretion to reappoint individuals to serve on the FirstNet Board provided they have not served two consecutive full three-year terms,³ NTIA issues this Notice in case the Secretary will need to fill any vacancies on the Board at the time the one-year terms expire on August 19, 2013. Expressions of interest for appointment to the FirstNet Board will be accepted until June 14, 2013.

¹ The Middle Class Tax Relief and Job Creation Act of 2012 (Act) created FirstNet as an independent authority within NTIA that will establish a single nationwide interoperable broadband network. Middle Class Tax Relief and Job Creation Act of 2012, Public Law 112-96, 126 Stat. 156 (“Act”), to be codified at 47 U.S.C. 1401 et. seq. The Act requires that FirstNet be led by a 15-person Board, with the Secretary of Homeland Security, the Attorney General, and the Director of the Office of Management and Budget serving as permanent members of the Board. 47 U.S.C. 1424(b)(1).

² Congress charged the Secretary of Commerce with appointing 12 non-permanent members. 47 U.S.C. 1424(b)(1)(D). The Act states that the term of all non-permanent FirstNet Board members is three years. 47 U.S.C. 1424(c)(2)(A)(ii). However, the terms of the inaugural non-permanent FirstNet Board members are staggered, with four members serving three years, four serving two years, and four serving one year. 47 U.S.C. 1424(c)(2)(D).

³ 47 U.S.C. 1424(c)(2)(A)(ii), providing that no appointed member of the FirstNet Board may serve more than two consecutive full three-year terms. A Board member whose initial appointment was for either one or two years may still serve two three-year terms beyond his or her initial appointment.

DATES: Expressions of Interest must be postmarked or electronically transmitted on or before June 14, 2013.

ADDRESSES: Persons wishing to submit expressions of interest as described below should send that information to: Uzoma Onyeije, FirstNet Board Secretary by email to FirstNetBoard@ntia.doc.gov; by U.S. mail or commercial delivery service to: Office of Public Safety Communications, National Telecommunications and Information Administration, 1401 Constitution Avenue NW., Room 7324, Washington, DC 20230; or by facsimile transmission to (202) 501-0536. Please note that all material sent via the U.S. Postal Service (including “Overnight” or “Express Mail”) is subject to delivery delays of up to two weeks due to mail security procedures.

FOR FURTHER INFORMATION CONTACT: Uzoma Onyeije, FirstNet Board Secretary, c/o National Telecommunications and Information Administration, U.S. Department of Commerce, 1401 Constitution Avenue NW., Room 7324, Washington, DC 20230; telephone: (202) 482-0016; email: uonyeije@ntia.doc.gov. Please direct media inquiries to NTIA's Office of Public Affairs, (202) 482-7002.

SUPPLEMENTARY INFORMATION:

I. Background and Authority

The Middle Class Tax Relief and Job Creation Act of 2012 (Act) created the First Responder Network Authority (FirstNet) as an independent authority within NTIA and authorizes it to take all actions necessary to ensure the building, deployment, and operation of a nationwide public safety broadband network (PSBN) based on a single, national network architecture.⁴ FirstNet is responsible for, at a minimum, ensuring nationwide standards for use and access of the network; issuing open, transparent, and competitive requests for proposals (RFPs) to build, operate, and maintain the network; encouraging these RFPs to leverage, to the maximum extent economically desirable, existing commercial wireless infrastructure to speed deployment of the network; and overseeing contracts with non-federal entities to build, operate, and maintain the network.⁵ FirstNet holds the single public safety license granted for wireless public safety broadband deployment. The FirstNet Board is responsible for making strategic decisions about FirstNet's operations and ensuring the success of the nationwide network.

⁴ 47 U.S.C. 1422(b).

⁵ 47 U.S.C. 1426(b)(1).

II. Structure

The FirstNet Board is composed of 15 voting members. The Act names the U.S. Attorney General, the Director of the Office of Management and Budget, and the Secretary of the Department of Homeland Security as permanent members of the Board. On August 20, 2012, Acting Secretary of Commerce Rebecca M. Blank announced her appointment of the 12 non-permanent members of the FirstNet Board.⁶ Each member of this diverse group brings considerable public safety experience, or network, technology, and/or financial expertise as the Act requires.⁷ Additionally, the composition of the FirstNet Board satisfies the other requirements specified in the Act, including that: (i) At least three Board members have served as public safety professionals; (ii) at least three members represent the collective interests of states, localities, tribes, and territories; and (iii) its members reflect geographic and regional, as well as rural and urban, representation.⁸ An individual Board member may satisfy more than one of these requirements. The current non-permanent FirstNet Board members are (noting length of term):

⁶ 47 U.S.C. 1424(b).

⁷ 47 U.S.C. 1424(b)(2)(B).

⁸ 47 U.S.C. 1424(b)(2)(A).

• Tim Bryan, CEO, National Rural Telecommunications Cooperative (3 years)

• Charles “Chuck” Dowd, Assistant Chief, New York City Police Department (2 years)

• F. Craig Farrill, wireless telecommunications executive (3 years)

• Paul Fitzgerald, Sheriff, Story County, Iowa (2 years)

• Samuel “Sam” Ginn, telecommunications executive (2 years)

• Jeffrey Johnson, Fire Chief (retired); former Chair, State Interoperability Council, State of Oregon; CEO, Western Fire Chiefs Association (1 year)

• William Keever, telecommunications executive (retired) (1 year)

• Kevin McGinnis, Chief/CEO, North East Mobile Health Services (3 years)

• Ed Reynolds, telecommunications executive (retired) (2 years)

• Susan Swenson, telecommunications/technology executive (1 year)

• Teri Takai, government information technology expert; former CIO, States of Michigan and California (1 year); and

• Wellington Webb, Founder, Webb Group International; former Mayor, Denver, Colorado (3 years).

Initial, non-permanent Board members serve staggered terms of one, two, or three years. Subsequent Board members will be appointed for a term of three years, and Board members may not serve more than two consecutive full three-year terms.

III. Compensation and Status as Government Employees

FirstNet Board members are appointed as federal government employees. FirstNet Board members are compensated at the daily rate of basic pay for level IV of the Executive Schedule (approximately $155,000 per year).⁹ Each Board member must be a United States citizen, cannot be a registered lobbyist, and cannot be a registered agent of, employed by, or receive payments from, a foreign government. The Board meets at the call of the Chair and not less than once each quarter.¹⁰

⁹ 47 U.S.C. 1424(g).

¹⁰ 47 U.S.C. 1424(e).

IV. Financial Disclosure and Conflicts of Interest

FirstNet Board members are required to comply with certain federal conflict of interest statutes and ethics regulations, including some financial disclosure requirements. FirstNet Board members will generally be prohibited from participating on any particular matter that will have a direct and predictable effect on his or her personal financial interests or on the interests of the appointee's spouse, minor children, or non-federal employer. FirstNet Board candidates may be subject to an appropriate background check for security clearance.

V. Selection Process

By this Notice, the Secretary of Commerce, through NTIA, will accept expressions of interest until June 14, 2013 from any individual, or any organization who wishes to propose a candidate, who satisfies the statutory requirements for membership on the FirstNet Board. All parties wishing to be considered should submit their full name, address, telephone number, email address, a current resume, and a statement of qualifications that references the Act's eligibility requirements for FirstNet Board membership, as described in this Notice, along with a statement describing why they want to serve on the FirstNet Board and their ability to take a regular and active role in the Board's work.

NTIA will screen all submissions and forward the most qualified candidates to the FirstNet Board for consideration. The FirstNet Board will review and evaluate these candidates as it prepares and submits its recommendations to the Secretary of Commerce as to whom to appoint in August 2013.

The Secretary of Commerce will select FirstNet Board candidates to fill any vacancies arising on the FirstNet Board based on the eligibility requirements in the Act and on the input and recommendations from the FirstNet Board. Board candidates will be evaluated based on their ability to contribute to the goals and objectives of FirstNet as set forth in the Act. Board candidates will be vetted through the Department of Commerce.

Dated: May 29, 2013.
Lawrence E. Strickling,
Assistant Secretary for Communications and Information.

[FR Doc. 2013-13073 Filed 5-31-13; 8:45 am]

BILLING CODE 3510-60-P